DEPARTMENT OF DEFENSE

Department of the Air Force

[Docket ID: USAF-2014-0026]

Privacy Act of 1974; System of Records

AGENCY: Department of the Air Force, DoD.

ACTION: Notice to alter a System of Records.

SUMMARY: The Department of the Air Force proposes to alter a system of records notice, F044 AF SG I, entitled “Civilian Employee Drug Testing Records” in its existing inventory of records systems subject to the Privacy Act of 1974, as amended. This system maintains a record on Air Force military and civilian personnel to track the identification, notification, testing, and retesting for drug usage.

DATES: Comments will be accepted on or before September 22, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571)256-2515.

SUPPLEMENTARY INFORMATION: The Department of the Air Force's notices for systems of records subject to the Privacy Act of 1974 (5 U.S.C. 552a), as amended, have been published in the Federal Register and are available from the address in FOR FURTHER INFORMATION CONTACT or at the Defense Privacy and Civil Liberties Web site at http://dpclo.defense.gov/. The proposed systems reports, as required by 5 U.S.C. 552a(r) of the Privacy Act, as amended were submitted on July 30, 2014 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: August 19, 2014.
Aaron Siegel,
Alternate OSD Federal Register Liaison Officer, Department of Defense.

F044 AF SG I

System name:

Civilian Employee Drug Testing Records (June 11, 1997, 62 FR 31793).

Changes:

* * * * *

System name:

Delete entry and replace with “Air Force Drug Testing Program.”

* * * * *

Categories of individuals covered by the system:

Delete entry and replace with “Air Force active duty, reserve, national guard and civilian personnel who are required to participate in the Air Force drug screening program.”

Categories of records in the system:

Delete entry and replace with “Name, Social Security Number (SSN) and/or Department of Defense Identification number (DoD ID number) Self-identification records; requests for testing submitted by employees, supervisors, and commanders; testing notification; documentary evidence in support of testing decision; chain of custody records regarding testing samples; reports of testing results; records relating to the type and quality of testing performed; documentary evidence submitted by employee or applicant in rebuttal of test results; reports of medical findings regarding test results; disciplinary/adverse action records to include notification of proposed action and documentary evidence submitted in support thereof, employee's response and documentary evidence submitted in support thereof, and management's action; referrals to counseling/rehabilitation services; and records regarding employee's consent for release of information concerning counseling/rehabilitation progress.”

Authority for the maintenance of the system:

Delete entry and replace with “5 U.S.C. 7301, Presidential Regulations; 10 U.S.C. 8013, Secretary of the Air Force: Powers and Duties, delegation by; DoD Directive 1010.9, DoD Civilian Employee Drug-Free Workplace Program; E.O. 12564, Drug-free Federal Workplace; AFI 44-120, Military Drug Demand Reduction Program, and E.O. 9397 (SSN), as amended.”

Purpose(s):

Delete entry and replace with “To maintain a record on individuals who are identified as having a positive drug test from a random or command directed urinalysis. These records will be used for identifying, tracking, notifying, and retesting of those individuals.”

* * * * *

Storage:

Delete entry and replace with “Electronic storage media.”

Retrievability:

Delete entry and replace with “Name, SSN and/or DoD ID number.”

Safeguards:

Delete entry and replace with “Records are accessed by person(s) responsible for servicing the record system in performance of their official duties and by authorized personnel who are properly screened and cleared for need-to-know. Records are only accessed by authorized personnel with Common Access Card (CAC) and need-to-know.”

Retention and disposal:

Delete entry and replace with “Electronic records are destroyed after five years. Electronic records are destroyed by erasing, deleting, or overwriting.”

System manager(s) and address:

Delete entry and replace with “Headquarters, Air Force Drug Testing Laboratory, AFMOA/SGBD, 2480 Ladd Street, Bldg 3750, Lackland AFB, TX 78236-5310.”

Notification procedure:

Delete entry and replace with “Individuals seeking to determine whether this system of records contains information on themselves should address written inquiries to the system manager, or the installation Airman and Family Center. Official mailing addresses are published as an appendix to the Air Force's compilation of systems of records notices.

For verification purposes, individuals should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking to access records about themselves contained in this system should address written requests to the system manager, or the installation Airman and Family Center. Official mailing addresses are published as an appendix to the Air Force's compilation of systems of records notices.

For verification purposes, individuals should provide their full name, SSN and/or DoD ID Number, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting record procedures:

Delete entry and replace with “The Air Force rules for accessing records and for contesting contents and appealing initial agency determinations are published in Air Force Instruction 33-332, Air Force Privacy Program; 32 CFR part 806b; or may be obtained from the system manager.”

* * * * *

[FR Doc. 2014-19954 Filed 8-21-14; 8:45 am]

BILLING CODE 5001-06-P